DEPARTMENT OF LABOR

Employment and Training Administration

[TA-W-74,890]

Ohio Decorative Products, Inc., Including On-Site Leased Workers From Custom Staffing, Spencerville, OH; Amended Certification Regarding Eligibility To Apply for Worker Adjustment Assistance

In accordance with Section 223 of the Trade Act of 1974, as amended (“Act”), 19 U.S.C. 2273, the Department of Labor issued a Certification of Eligibility to Apply for Worker Adjustment Assistance on January 7, 2011, applicable to workers of Ohio Decorative Products, Inc., Spencerville, Ohio. The workers are engaged in employment related to the production of decorative metal products for appliances. The Notice was published in the Federal Register on January 26, 2011 (76 FR 4728).

At the request of a petitioner, the Department reviewed the certification for workers of the subject firm. The subject firm reports that the workers leased from Custom Staffing were employed on-site at the Spencerville, Ohio location of Ohio Decorative Products, Inc. The Department has determined that these workers were sufficiently under the control of Ohio Decorative Products, Inc. to be considered leased workers.

Based on these findings, the Department is amending this certification to include workers leased from Custom Staffing working on-site at the Spencerville, Ohio location of Ohio Decorative Products, Inc.

The amended notice applicable to TA-W-74,890 is hereby issued as follows:

All workers of Ohio Decorative Products, Inc., including on-site leased workers from Custom Staffing, Spencerville, Ohio, who became totally or partially separated from employment on or after November 11, 2009, through January 7, 2013, and all workers in the group threatened with total or partial separation from employment on the date of certification through two years from the date of certification, are eligible to apply for adjustment assistance under Chapter 2 of Title II of the Trade Act of 1974, as amended.

Signed at Washington, DC this 10th day of February, 2011.
Del Min Amy Chen,
Certifying Officer, Office of Trade Adjustment Assistance.

[FR Doc. 2011-4100 Filed 2-23-11; 8:45 am]

BILLING CODE 4510-FN-P